FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 14, 2014.

A. Federal Reserve Bank of Richmond (Adam M. Drimer, Assistant Vice President) 701 East Byrd Street, Richmond, Virginia 23261-4528:

1. Harold T. Keen, Four Oaks, North Carolina, individually and together with Barbara A. Keen, Four Oaks, North Carolina, Matthew Keen, Annapolis, Maryland, and Catherine Keen Hock, Greensboro, North Carolina, as a group acting in concert; to acquire voting shares of KS Bancorp, Inc., and thereby indirectly acquire voting shares of KS Bank, Inc., both in Smithfield, North Carolina.

Board of Governors of the Federal Reserve System, September 24, 2014.
Michael J. Lewandowski,
Associate Secretary of the Board.

[FR Doc. 2014-23088 Filed 9-26-14; 8:45 am]

BILLING CODE 6210-01-P